FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 15, 2010.

A. Federal Reserve Bank of Chicago (Colette A. Fried, Assistant Vice President) 230 South LaSalle Street, Chicago, Illinois 60690-1414:

1. Marcelo L. Sacomori, London, England; to acquire additional voting shares of Granville Bancshares, Inc., and thereby indirectly acquire additional voting shares of Granville National Bank, both of Granville, Illinois and Sheridan State Bank, Sheridan, Illinois.

B. Federal Reserve Bank of Kansas City (Dennis Denney, Assistant Vice President) 1 Memorial Drive, Kansas City, Missouri 64198-0001:

1. Larry L. Bingham, Baxter Springs, Kansas; Ross C. Hartley, Teton Village, Wyoming; Fred Mitchelson, Pittsburg, Kansas; and Bob L. Robinson, Baxter Springs, Kansas; to acquire control of American BancShares, Inc., and thereby indirectly acquire control of American Bank of Baxter Springs, both of Baxter Springs, Kansas.

Board of Governors of the Federal Reserve System, October 26, 2010.
Robert deV. Frierson,
Deputy Secretary of the Board.

[FR Doc. 2010-27375 Filed 10-28-10; 8:45 am]

BILLING CODE 6210-01-P